DEPARTMENT OF HEALTH AND HUMAN SERVICES

Health Resources and Services Administration

Special Projects of National Significance, Targeted Information Technology Model Implementation; Evaluation and Technical Assistance Center

AGENCY: Health Resources and Services Administration and Agency for Healthcare Research and Quality, HHS.

ACTION: Notice of availability of funds.

SUMMARY: The Health Resources and Services Administration (HRSA) and the Agency for Healthcare Research and Quality (AHRQ) announce the availability of fiscal year (FY) 2002 funds to be awarded under the Special Projects of National Significance (SPNS) program for discretionary grants, under a new competition that supports the evaluation of the effectiveness of Information Technology (IT) to improve the delivery and quality of care to underserved HIV-infected individuals. The purpose of this new grant initiative is to support multi-year projects that will develop and evaluate IT-based projects that: (1) Optimize the delivery of health care; (2) optimize outcomes and quality of health care; and (3) assess the cost-effectiveness of IT interventions. In addition, a Technical Assistance (TA) Center will be supported to provide advice and technical assistance to the funded multi-year IT Projects regarding program refinement and evaluation. Special emphasis is directed to help individuals from communities of color and underserved populations.

The SPNS program is authorized by section 2691 of the Public Health Service (PHS) Act.

Funds will be awarded in two categories. In the first category (IT Projects), HRSA and AHRQ expect to award approximately three (3) grants for the development and evaluation of IT-based projects that can improve the delivery of primary medical care and/or ancillary services to underserved HIV-infected individuals. It is anticipated that each IT Project site will be awarded approximately $400,000 per year for a 4-year project period.

In the second category (TA Center), HRSA and AHRQ expect to award one grant up to $300,000 per year for a 4-year project period to support a TA Center. This TA Center will provide technical assistance to grantees on areas related to program implementation, evaluation, and dissemination of findings.

Grants may be awarded to eligible public and private non-profit entities to develop and evaluate technological interventions of care for the treatment of people with HIV infection.

Proposed IT Projects should seek to improve the delivery of primary medical care and/or ancillary services and contribute to measurable and sustainable improvements in three main areas: (1) Optimizing the delivery of health care; (2) optimizing outcomes and quality of health care; and (3) assessing the cost-effectiveness of IT interventions. Each of the areas is described below:

Optimizing delivery of care: The first area of emphasis focuses on how the application of technology can facilitate and improve the delivery of care. This may include, but is not limited to, linking health care systems with other systems of care that HIV-infected individuals may require such as drug rehabilitation programs, mental health care, and other social services.

Optimizing outcomes and quality: The second area of emphasis focuses on how to improve outcomes and quality of care. This may include, but is not limited to, tools for provider decision-support in clinical settings or other strategies to reduce medical errors, enhance medication adherence, and improve clinician-prescribing practices.

Assessing cost-effectiveness: The third area of emphasis relates to how the application of IT can reduce health care costs without adversely affecting outcomes or quality. This may include, but is not limited to, IT interventions that can reduce medication costs or decrease hospitalizations for HIV-positive patients.

IT Projects should focus on under-served populations and be evaluated in outpatient or community-based settings. Grantees are expected to select the evaluative framework and instruments within six (6) months and have the IT-based intervention up and running within nine (9) months. The intervention may utilize an IT tool already in use or adapt an IT tool within the first nine (9) months of award. If tools must be adapted, applicants are encouraged to partner with a technology vendor or University-based technology program. IT Project grantees are expected to collaborate with the SPNS-supported TA Center and widely disseminate results of the project. The TA center will facilitate the evaluation and dissemination efforts of the successful IT projects.

The SPNS program is designed to demonstrate and evaluate innovative and replicable HIV service delivery models. The authorizing legislation specifies three SPNS program objectives: (1) To support the development of innovative models of HIV care; (2) to evaluate the effectiveness of innovative program designs; and (3) to promote replication of effective models. Therefore, crucial factors in appraising proposals for IT-based demonstration models will include, among other factors, the degree to which the applicant's plan improves the delivery, quality or cost-effectiveness of care for vulnerable subpopulations and historically under-served communities by implementing innovative IT-based interventions.

DATES: To help HRSA adequately plan for the Objective Review Process, Letters of Intent are encouraged from all applicants. Such letters should be sent to: Barbara Aranda-Naranjo, PhD, RN, FAAN, Branch Chief, ATTN: 2002 IT Initiative, Demonstration Project Development and Evaluation Branch, Office of Science and Epidemiology, HIV/AIDS Bureau, Health Resources and Services Administration, 5600 Fishers Lane, Rm. 7C-07, Rockville, MD 20857 or faxed to: 301-443-4965. Such letters should be received by SPNS within 30 days after the publication of this Notice of Availability of Funds in the Federal Register. Receipt of these notices of intent will not be routinely acknowledged.

EFFECTIVE DATE: Applications must be received in the HRSA Grant Application Center by the close of business June 12, 2002, to be considered for competition. Applications will meet the deadline if they are either (1) received on or before the deadline date or (2) postmarked on or before the deadline date, and received in time for submission to the objective review panel. A legibly dated receipt from a commercial carrier or U.S. Postal Service will be accepted instead of a postmark. Private metered postmarks shall not be accepted as proof of timely mailing. Applications received after the deadline will be returned to the applicant.

ADDRESSES: The official grant application kit and guidance materials for this announcement may be obtained from the HRSA Grants Application Center, Attn: CFDA 93.928; 2002 IT Initiative, The Legin Group, Inc., 901 Russell Avenue, Suite 450, Gaithersburg, MD 20879; telephone 877-477-2123, e-mail address: HRSA.GAC@hrsa.gov. Applicants are strongly advised to obtain the Guidance before preparing applications. Please mail completed applications to the HRSA Grants Application Center, previously described. Applicants for grants will use Revised Form PHS 5161-1, approved under OMB Control No. 0937-0189. This form may also be downloaded from the DHHS Program Support Center (PSC) Web site: http://www.psc.gov/forms/PHS/phs.html. All applications submitted to the SPNS program will be reviewed and rated by an objective review panel. The application guidance may be accessed through HRSA's Web site at www.hrsa.dhhs.gov/grants.htm.

FOR FURTHER INFORMATION CONTACT: Additional information regarding business, administrative, and fiscal issues related to the awarding of grants under this Notice may be requested from Ms. Mary Douglas, Grants Management Specialist, HIV/AIDS Bureau, Health Resources and Services Administration, 5600 Fishers Lane, Rm. 7-89, Rockville, MD 20857; telephone 301-443-1262; fax 301-594-6096; e-mail address: MDouglas@hrsa.gov.

Additional information regarding program issues and the overall SPNS Program may be requested from Barbara Aranda-Naranjo, PhD, RN, FAAN, Branch Chief, ATTN: 2002 IT Initiative, Demonstration Project Development and Evaluation Branch, Office of Science and Epidemiology, HIV/AIDS Bureau, Health Resources and Services Administration, 5600 Fishers Lane, Rm. 7C-07, Rockville, MD 20857; telephone 301-443-4149; fax 301-443-4965; e-mail address: BAranda-Naranjo@hrsa.gov.

Technical assistance regarding this funding announcement may be requested from Rick Crane, Special Program Consultant, Demonstration Project and Evaluation Branch, Office of Science and Epidemiology, HIV/AIDS Bureau, Health Resources and Services Administration, 5600 Fishers Lane, Room 7C-07, Rockville, MD 20857; telephone 301-443-0232; fax 415-626-7369; e-mail address ricrane@msn.com.

Healthy People 2010 Objectives: The Public Health Service urges applicants to address at least one of the Healthy People 2010 objectives in their work plans. Potential applicants may obtain a copy of Healthy People 2010 (Full Report) or Healthy People 2010 (Summary Report) through the Superintendent of Documents, Government Printing Office, Washington, DC 20402-9325 (Web site: http://www.access.gpo.gov; telephone: 202-512-1800).

SUPPLEMENTARY INFORMATION: The SPNS program endeavors to advance knowledge and skills in HIV service delivery, to stimulate the design of innovative models of care, and to support the development of effective delivery systems for these services. SPNS accomplishes its purpose through funding, technical support, and evaluation of innovative HIV service delivery models. Within the health care delivery system, information technology is increasingly being used to improve services. Rapid advances in IT now make it possible to bring information to both health care providers and patients. Some of these IT interventions include automated laboratory reporting, electronic medical records, computerized provider order entry, smart cards, bar coding and digital imaging. In addition, IT can be used for provider and patient education and training. While the use of information technology in health care continues to expand, there is little to no evidence demonstrating the effectiveness of IT to improve HIV care. This solicitation seeks proposals that will assess the extent to which IT applied in various HIV care settings can contribute to measurable and sustainable improvements in the delivery, quality or cost-effectiveness of care for people living with HIV. Further, the announcement seeks applications for a TA Center to work with funded IT Project grantees.

Review Criteria

Criteria for the technical review of applications for IT Projects are as follows

1. (20 points) Description of the applicant's organizational capacity and eligibility;

2. (15 points) Description of the context for the proposed intervention;

3. (25 points) Description of the applicant's current IT-based model and proposed intervention;

4. (25 points) Description of evaluation and dissemination plans;

5. (10 points) Appropriateness and justification of the budget; and

6. (5 points) Adherence to Program Guidance.

Criteria for the technical review of applications for the TA Center are as follows

1. (25 points) Description of the professional qualifications of personnel;

2. (20 points) Description of the organizational capacity;

3. (25 points) Description of a comprehensive work plan;

4. (15 points) Description of product development activities;

5. (10 points) Appropriateness and adequacy of the budget; and

6. (5 points) Adherence to the Program Guidance.

Availability of Funds

The SPNS program is authorized by Section 2691of the PHS Act. Grants may be awarded directly to public and non-profit private entities, including community-based organizations. The program has approximately $1.5 million dollars available for this initiative. HRSA expects to make approximately three (3) awards for demonstration projects and one award for the Technical Assistance Center. The budget and project periods for approved and funded projects will begin on or about October 1, 2002. All applicants should submit budgets for the 4-year project period.

All grantees funded should recognize that this initiative is not designed to provide continuous support once the SPNS demonstration project is completed and evaluated. Demonstration programs are strongly encouraged to secure non-SPNS funding support during their projects if the evaluation suggests that the model is effective and merits continuation. Further information on this matter is contained in the Guidance.

Eligible Applicants

The statute, Section 2691(a) specifies that grants may be awarded to public and non-profit private entities to fund special programs for the care and treatment of people with HIV disease. Eligible applicants may include, but are not limited to, State, local, or tribal public health, mental health, housing, or substance abuse departments; public or non-profit hospitals and medical facilities; faith-based and community-based service organizations (e.g., AIDS service organizations, Federally-qualified health centers, family planning centers, AIDS anti-discrimination and advocacy organizations, homeless assistance providers, hemophilia centers, community mental health centers, substance abuse treatment centers, urban and tribal Indian health centers or facilities, migrant health centers, etc.), institutions of higher education (e.g., Historically Black Colleges and Universities, Hispanic Serving Institutions, and Tribal Colleges and Universities), and national service provider and/or policy development associations and organizations.

Allowable Costs

The basis for determining allocable and allowable costs to be charged to PHS grants is set forth in 45 CFR part 74 and 45 CFR part 92 for State, local, or tribal governments. The four separate sets of cost principles prescribed for public and private non-profit recipients are: OMB Circular A-87 for State, local or tribal governments; OMB Circular A-21 for institutions of higher education; 45 CFR part 74, Appendix E for hospitals; and OMB Circular A-122 for non-profit organizations. Further information on allowable costs is contained in the Guidance.

Reporting and Other Requirements

A successful applicant under this notice will submit two semi-annual activity summary reports, in accordance with provisions of the general regulations which apply under 45 CFR 74.51 “Monitoring and Reporting of Program Performance,” with the exception of State and local governments to which 45 CFR part 92 reporting requirements apply.

Federal Smoke Free Compliance

The PHS strongly encourages all grant and contract recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is also subject to the Public Health System Reporting Requirements which have been approved by the Office of Management and Budget under No. 0937-0195. Under these requirements, any community-based, non-governmental applicant must prepare and submit a Public Health System Impact Statement (PHSIS). The PHSIS is intended to keep State and local health officials appraised of proposed health services grant applications submitted from within their jurisdictions.

All applicants are required to submit, no later than the Federal due date for receipt of the application, the following information to the administrator of the State and local health agencies and to the State and local AIDS program director in the area(s) to be affected by the proposed program: (1) a copy of the face page of the application (SF 424); and, (2) a summary of the project, not to exceed one page, which provides: (a) A description of the population to be served; (b) a summary of the services to be provided; and, (c) a description of the coordination planned with the appropriate State or local health agencies. Copies of the letters forwarding the PHSIS to these authorities must be contained in the application materials submitted to this program.

Executive Order 12372

The SPNS Grant Program has been determined to be a program subject to the provisions of Executive Order 12372, concerning intergovernmental review of Federal Programs, as implemented by 45 CFR part 100. Executive Order 12372 allows States the option of setting up a system for reviewing applications from within their States for assistance under certain Federal programs. The application packages to be made available under this notice will contain a listing of States which have chosen to set up a review system and will provide a State Single Point of Contact (SPOC) for the review. Applicants (other than federally recognized Indian tribes) should contact their SPOCs as early as possible to alert them to the prospective applications and receive any necessary instructions on the State process. For proposed projects serving more than one State, the applicant is advised to contact the SPOC of each affected state. The due date for State process recommendations is 60 days after the appropriate deadline dates. HRSA does not guarantee that it will accommodate or explain its responses to State process recommendations received after the due date. (See “Intergovernmental Review of Federal Programs,” Executive Order 12372, and CFR part 100, for a description of the review process and requirements.)

Audit Requirements

Applicants are required to comply with requirements of OMB Circular A-133. For additional information on this topic, contact Ms. Mary Douglas, Grants Management Specialist, HIV/AIDS Bureau, Health Resources and Services Administration, 5600 Fishers Lane, Rm. 7-89, Rockville, MD 20857; telephone 301-443-1262; fax 301-594-6096; e-mail address: MDouglas@hrsa.gov.

The OMB Catalog of Federal Domestic Assistance number for the Special Projects of National Significance is 93.928.

Dated: April 18, 2002.
Elizabeth M. Duke,
Administrator.

[FR Doc. 02-10088 Filed 4-24-02; 8:45 am]

BILLING CODE 4165-15-P